DEPARTMENT OF ENERGY

Federal Energy Regulatory Commission

Sunshine Act Meetings

The following notice of meeting is published pursuant to section 3(a) of the government in the Sunshine Act (Pub. L. 94-409), 5 U.S.C.552b:

Agency Holding Meeting: Federal Energy Regulatory Commission.

TIME AND DATE: May 20, 2021, 10:00 a.m.

PLACE: Open to the public via video Webcast. Join FERC online to view live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1079th Meeting—Open Meeting
[May 20, 2021, 10:00 a.m.]
Item No. | Docket No. | Company
Administrative
A-1 | AD21-1-000 | Agency Administrative Matters.
A-2 | AD21-2-000 | Customer Matters, Reliability, Security and Market Operations.
A-3 | AD06-3-000 | Market Update.
Electric
E-1 | ER13-1508-001 | Entergy Arkansas, Inc.
| ER13-1509-001 | Entergy Gulf States Louisiana, L.L.C.
| ER13-1510-001 | Entergy Louisiana, LLC.
| ER13-1511-001 | Entergy Mississippi, Inc.
| ER13-1512-001 | Entergy New Orleans, Inc.
| ER13-1513-001 | Entergy Texas, Inc.
E-2 | EL00-95-291 | San Diego Gas & Electric Company v. Sellers of Energy and Ancillary Services Into Markets Operated by the California Independent System Operator Corporation and the California Power Exchange.
| EL00-98-263 | Investigation of Practices of the California Independent System Operator and the California Power Exchange.
E-3 | EL00-95-310 | San Diego Gas & Electric Company v. Sellers of Energy and Ancillary Services Into Markets Operated by the California Independent System Operator Corporation and the California Power Exchange
E-4 | EL00-95-301 | San Diego Gas & Electric Company v. Sellers of Energy and Ancillary Services Into Markets Operated by the California Independent System Operator Corporation and the California Power Exchange.
| EL00-98-273 | Investigation of Practices of the California Independent System Operator and the California Power Exchange.
E-5 | EL02-71-057 | State of California, ex rel. Bill Lockyer, Attorney General of the State of California v. British Columbia Power Exchange Corporation, Coral Power, LLC, Dynegy Power Marketing, Inc., Enron Power Marketing, Inc., Mirant Americas Energy Marketing, LP, Reliant Energy Services, Inc., Williams Energy Marketing & Trading Company, All Other Public Utility Sellers of Energy and Ancillary Services to the California Energy Resources Scheduling Division of the California Department of Water Resources, and All Other Public Utility Sellers of Energy and Ancillary Services into Markets Operated by the California Power Exchange and California Independent System Operator.
E-6 | ER17-1433-001 | PJM Interconnection, L.L.C.
| EL20-41-000 | XO Energy LLC, XO Energy MA, LP and XO Energy MA2, LP v. PJM Interconnection, L.L.C.
E-7 | IN18-9-000 | GreenHat Energy, LLC, et al.
E-8 | RM05-5-029, RM05-5-030 | Standards for Business Practices and Communication Protocols for Public Utilities.
E-9 | ER21-834-001 | Midcontinent Independent System Operator, Inc.
E-10 | ER21-836-001 | Midcontinent Independent System Operator, Inc.
E-11 | ER21-837-001 | Midcontinent Independent System Operator, Inc.
E-12 | ER21-410-001 | Tri-State Generation and Transmission Association, Inc.
E-13 | ER21-1206-000 | Keota Solar, LLC.
E-14 | ER19-2722-003 | PJM Interconnection, L.L.C.
E-15 | ER15-1429-015 | Versant Power
E-16 | ER20-2148-002 | Lexington Chenoa Wind Farm LLC.
E-17 | ER21-712-000 | New England Hydro-Transmission Electric Company, Inc., New England Hydro-Transmission Corporation, New England Electric Transmission Corporation, Vermont Electric Transmission Company, and IRH Management Committee.
Gas
G-1 | RM18-11-002 | Interstate and Intrastate Natural Gas Pipelines; Rate Changes Relating to Federal Income Tax Rate..
| RP18-415-002 | American Forest & Paper Association.
G-2 | RP21-625-000 | Venture Global Calcasieu Pass, LLC.
G-3 | OR21-4-000 | Navigator Borger Express LLC.
Hydro
H-1 | P-10809-051, P-10810-057, P-2785-103 | Boyce Hydro Power, LLC.
H-2 | P-15035-000 | Premium Energy Holdings, LLC.
H-3 | P-2299-087, P-14581-004 | Turlock Irrigation District and Modesto Irrigation District.
H-4 | P-9100-040 | Riverdale Power & Electric Co., Inc.
Certificates
C-1 | CP17-458-007 | Midship Pipeline Company, LLC.
C-2 | CP20-503-000 | Northern Natural Gas Company.
C-3 | CP20-486-000 | Tuscarora Gas Transmission Company.
C-4 | CP17-101-003 | Transcontinental Gas Pipe Line Company, LLC.
C-5 | CP17-40-000, CP17-40-001, CP17-40-002, CP17-40-003, CP17-40-004, CP17-40-005 | Spire STL Pipeline LLC.

Dated: May 13, 2021.
Kimberly D. Bose,
Secretary.

The public is invited to view the meeting live at http://ferc.capitolconnection.org/. Anyone with internet access who desires to view this event can do so by navigating to www.ferc.gov' s Calendar of Events and locating this event in the Calendar. The event will contain a link to its video webcast. The Capitol Connection provides technical support for this free webcast. It will also offer access to this event via phone bridge for a fee. If you have any questions, visit http://ferc.capitolconnection.org/ or contact Shirley Al-Jarani at 703-993-3104.

[FR Doc. 2021-10539 Filed 5-14-21; 11:15 am]

BILLING CODE 6717-01-P